DEPARTMENT OF ENERGY

Federal Energy Regulatory Commission

[Docket No. CP08-31-004]

Transcontinental Gas Pipe Line Corporation; Notice of Application

September 22, 2009.

Take notice that on September 11, 2009, Transcontinental Gas Pipe Line Corporation (Transco), 2800 Post Oak Boulevard, Houston, Texas 77056-6106 filed an application pursuant to section 7(c) of the Natural Gas Act (NGA) and Part 157 of the Commission's regulations, to amend its certificate granted by Commission Order issued on August 14, 2008 ¹ and as amended by Commission Order issued on October 23, 2008.² Transco proposes to revise its Exhibit K, cost of facilities in order to reflect increases in the cost of facilities for the Sentinel Expansion Project (Project) and to revise the initial recourse rates for Phase 2 of the Project. Transco states that the overall impact of the adjustments will be an increase of $59.6 million to the estimated cost of the Project facilities which is attributable to higher than anticipated expenses for construction and restoration.

¹ 124 FERC ¶ 61,160 (2008).

² 125 FERC ¶ 61,086 (2008).

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding the application are to be directed to Scott Turkington, Director, Rates & Regulatory, Transcontinental Gas Pipe Line Corporation, Post Office Box 1396, Houston, Texas 77251-1396, telephone: (713) 215-3391 or e-mail: scott.c.turkington@williams.com.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit the original and 14 copies of the protest or intervention to the Federal Energy Regulatory Commission, 888 First Street, NE., Washington, DC 20426.

Comment Date: October 2, 2009.

Kimberly D. Bose,
Secretary.

[FR Doc. E9-23405 Filed 9-28-09; 8:45 am]

BILLING CODE 6717-01-P